DEPARTMENT OF THE INTERIOR

Office of the Secretary

[16XD4523WS DS10200000 DWSN00000.000000 WBS DP10202 1020WSW02]

Privacy Act of 1974; as Amended; Notice To Amend an Existing System of Records

AGENCY: Office of the Secretary, Interior.

ACTION: Notice of amendment to an existing system of records.

SUMMARY: The Department of the Interior is issuing public notice of its intent to amend “Electronic FOIA Tracking System and FOIA Case Files—Interior, DOI-71” to update existing routine uses; add six new routine uses; and update the authority, system location, system manager, categories of records, storage, retrievability, safeguards, retention and disposal, notification procedures, record access procedures, contesting record procedures, record source categories, and exemptions sections.

DATES: Comments must be received by June 27, 2016. This amended system will be effective June 27, 2016.

ADDRESSES: Any person interested in commenting on this amendment may do so by: Submitting comments in writing to Teri Barnett, Departmental Privacy Officer, U.S. Department of the Interior, 1849 C Street NW., Mail Stop 5545 MIB, Washington, DC 20240; hand-delivering comments to Teri Barnett, Departmental Privacy Officer, U.S. Department of the Interior, 1849 C Street NW., Mail Stop 5545 MIB, Washington, DC 20240; or emailing comments to Privacy@ios.doi.gov.

FOR FURTHER INFORMATION CONTACT: Departmental FOIA Officer, Office of the Executive Secretariat, Department of the Interior, 1849 C Street NW., Mail Stop 7328-MIB, Washington, DC 20240, or by phone at 202-208-5342.

SUPPLEMENTARY INFORMATION:

I. Background

The Department of the Interior (“Department” or “DOI”) “Electronic FOIA Tracking System and FOIA Case Files—Interior, DOI-71” system contains information on individuals for the purposes of managing and processing Freedom of Information Act (FOIA) requests, some of which may be processed in tandem with the Privacy Act of 1974, as amended. This system: (1) Enables the Department to administer the program more efficiently while ensuring requests are responded to in a more timely fashion; (2) supports action on FOIA requests, appeals, and litigation; (3) ensures documents are released in a more consistent manner; (4) assists in eliminating the duplication of effort; (5) gathers information for management and reporting purposes, improving the Department's reporting capability and providing for more efficient use of manpower; and (6) improves customer service.

DOI is publishing this amended notice to reflect updated information in the authority, system location, system manager, categories of records, storage, retrievability, safeguards, retention and disposal, notification procedures, record access procedures, contesting record procedures, record source categories, and exemptions sections. Additionally, DOI is modifying existing routine uses to reflect updates consistent with standard DOI routine uses, and adding six new routine uses to permit sharing of information with: The National Archives and Records Administration's (NARA) Office of Government Information Services to assist and facilitate the resolution of disputes related to FOIA requests; NARA to conduct records management inspections; appropriate government agencies and organizations to provide information in response to court orders or for discovery purposes related to litigation; the Office of Management and Budget (OMB) in relation to legislative affairs mandates under OMB Circular A-19; the Department of the Treasury to recover debts owed to the United States; and the news media and the public. The system notice was last published in its entirety in the Federal Register on September 18, 2002 (67 FR 58817), and amendments to the system notice were published in the Federal Register on February 13, 2008 (73 FR 8342) and February 25, 2010 (75 FR 8731).

The amendments to the system will be effective as proposed at the end of the comment period (the comment period will end 30 days after the publication of this notice in the Federal Register), unless comments are received which would require a contrary determination. The Department will publish a revised notice if changes are made based upon a review of the comments received.

II. Privacy Act

The Privacy Act of 1974, as amended, embodies fair information practice principles in a statutory framework governing the means by which Federal Agencies collect, maintain, use, and disseminate individuals' personal information. The Privacy Act applies to records about individuals that are maintained in a “system of records.” A “system of records” is a group of any records under the control of an agency for which information about an individual is retrieved by the name or by some identifying number, symbol, or other identifying particulars assigned to the individual. The Privacy Act defines an individual as a United States citizen or lawful permanent resident. As a matter of policy, the Department extends administrative Privacy Act protections to all individuals. Individuals may request access to their own records that are maintained in a system of records in the possession or under the control of the Department by complying with the Department of the Interior Privacy Act regulations at 43 CFR part 2, subpart K.

The Privacy Act requires each agency to publish in the Federal Register a description denoting the type and character of each system of records that the agency maintains and the routine uses of each system to make agency recordkeeping practices transparent, notify individuals regarding the uses of their records, and assist individuals to more easily find such records within the agency. The revised “Electronic FOIA Tracking System and FOIA Case Files—Interior, DOI-71” system of records notice is published in its entirety below.

In accordance with 5 U.S.C. 552a(r), the Department has provided a report of this system of records to the Office of Management and Budget (OMB) and to Congress.

III. Public Disclosure

Before including your address, phone number, email address, or other personal identifying information in your comment, you should be aware that your entire comment—including your personal identifying information—may be made publicly available at any time. While you can ask us in your comment to withhold your personal identifying information from public review, we cannot guarantee that we will be able to do so.

Dated: May 23, 2016.
Teri Barnett,
Departmental Privacy Officer.

Interior, DOI-71

SYSTEM NAME:

Electronic FOIA Tracking System and FOIA Case Files—Interior, DOI-71.

SECURITY CLASSIFICATION:

Unclassified.

SYSTEM LOCATION:

(1) The Electronic FOIA Tracking System (EFTS) database and its servers are maintained by the Office of the Chief Information Officer, U.S. Department of the Interior, 12201 Sunrise Valley Drive, Reston, VA 20192; and (2) FOIA case files in this system (paper or electronic) are located in the offices of Bureau and Office FOIA personnel. (For a partial list of the Department's FOIA contacts, see the Department's FOIA Web site at https://www.doi.gov/foia/contacts.)

CATEGORIES OF INDIVIDUALS COVERED BY THE SYSTEM:

Individuals or their representatives who have submitted FOIA or combined FOIA and Privacy Act (PA) requests for records or information and administrative appeals, or have litigation pending with DOI or another Federal agency; individuals whose requests or records have been referred to the Department by other agencies; individuals who are the subject of such requests, appeals, and litigation; and/or the DOI personnel assigned to handle such requests, appeals, and litigation.

CATEGORIES OF RECORDS IN THE SYSTEM:

This system consists of records created or compiled in response to FOIA requests, or combined FOIA and PA requests, for records or information, administrative appeals, and related litigation and includes: The original requests and administrative appeals; responses to such requests and appeals; all related memoranda, correspondence, notes, and other related or supported documentation; and in some instances copies of requested records and records under appeal. Records about individuals may include name, mailing address, email address, telephone number, case file number, fee determinations, any information contained in the agency records requested by individuals, and identifying information about individual requestors.

AUTHORITY FOR MAINTENANCE OF THE SYSTEM:

5 U.S.C. 552, The Freedom of Information Act, as amended; and 5 U.S.C. 552a, The Privacy Act of 1974, as amended.

ROUTINE USES OF RECORDS MAINTAINED IN THE SYSTEM, INCLUDING CATEGORIES OF USERS AND THE PURPOSES OF SUCH USES:

The primary purpose of the EFTS and FOIA case files, which are maintained both electronically and in paper format, is to more efficiently manage the Department's FOIA program. This system: (1) Enables the Department to administer the program more efficiently while ensuring requests are responded to in a more timely fashion; (2) Supports action on FOIA requests, appeals, and litigation; (3) Ensures documents are released in a more consistent manner; (4) Assists in eliminating the duplication of effort; (5) Gathers information for management and reporting purposes, improving the Department's reporting capability and providing for more efficient use of manpower; and (6) Improves customer service.

In addition to those disclosures generally permitted under 5 U.S.C. 552a(b) of the Privacy Act, disclosures outside the Department may be made as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any Department employee acting in his or her individual capacity if the Department or DOJ has agreed to represent that employee or pay for private representation of the employee;

(b) When:

(i) One of the following is a party to the proceeding or has an interest in the proceeding:

(A) The Department or any component of the Department;

(B) Any other Federal agency appearing before the Office of Hearings and Appeals;

(C) Any Department employee acting in his or her official capacity;

(D) Any Department employee acting in his or her individual capacity if the Department or DOJ has agreed to represent that employee or pay for private representation of the employee;

(E) The United States, when DOJ determines that the Department is likely to be affected by the proceeding; and

(ii) The Department deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration (NARA) to conduct records management inspections under the authority of 44 U.S.C. 2904 and 2906.

(7) To state, territorial and local governments and tribal organizations to provide information needed in response to court order and/or discovery purposes related to litigation, when the disclosure is compatible with the purpose for which the records were compiled.

(8) To an expert, consultant, or contractor (including employees of the contractor) of the Department that performs services requiring access to these records on the Department's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the OMB during the coordination and clearance process in connection with legislative affairs as mandated by OMB Circular A-19.

(11) To the Department of the Treasury to recover debts owed to the United States.

(12) To a debt collection agency for the purpose of collecting outstanding debts owed to the Department for fees associated with processing FOIA/PA requests.

(13) To the news media and the public, with the approval of the Public Affairs Officer in consultation with Counsel and the Senior Agency Official for Privacy, where there exists a legitimate public interest in the disclosure of the information, except to the extent it is determined that release of the specific information in the context of a particular case would constitute an unwarranted invasion of personal privacy.

(14) To other Federal, State, and local agencies having a subject matter interest in a request or an appeal or a decision thereon.

(15) To another Federal agency to assist that agency in responding to an inquiry by the individual to whom that record pertains.

(16) To the National Archives and Records Administration, Office of Government Information Services (OGIS), to the extent necessary to fulfill its responsibilities in 5 U.S.C. 552(h), to review administrative agency policies, procedures, and compliance with the FOIA, and to facilitate OGIS' offering of mediation services to resolve disputes between persons making FOIA requests and administrative agencies.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Paper records are contained in file cabinets and/or in secured rooms under the control of authorized DOI personnel. Electronic records are contained in computers, compact discs, magnetic tapes, external removable drives, email, diskettes, digital video disks, and electronic databases.

RETRIEVABILITY:

Information can be retrieved by specific data elements in the system including: The EFTS tracking number; the name of the requester and/or his/her organizational affiliation; subject; etc. Paper records are normally retrieved by EFTS tracking number or by the name of the person making the request.

SAFEGUARDS:

Access to records in the system is limited to authorized personnel whose official duties require such access. Paper records are maintained in file cabinets and/or in secured rooms under the control of authorized DOI personnel. Computer servers in which electronic records are stored are located in secured DOI facilities with physical, technical and administrative levels of security to prevent unauthorized access to the DOI network and information assets. Electronic records are maintained in accordance with the OMB and Departmental guidelines reflecting the implementation of the Federal Information Security Modernization Act of 2014 (Pub. L. 113-283, 44 U.S.C. 3554). Electronic data is protected through user identification, passwords, database permissions and software controls. Such security measures establish different access levels for different types of users. System administrators and authorized users are trained and required to follow established internal security protocols and must complete all security, privacy, and records management training and sign the DOI Rules of Behavior.

RETENTION AND DISPOSAL:

Records are maintained under Departmental Records Schedule (DRS) 1—Administrative Records (DAA-0048-2013-0001) that cover FOIA and Privacy Act request files, correspondence, reports, and other program administration and financial management records, which has been approved by NARA. The disposition for these records is temporary and retention periods vary according to the specific record and the needs of the agency. FOIA request files and other short-term administration records are destroyed three years after cut-off, which is generally after the date of reply or the end of the fiscal year in which files are created. Long-term records that require additional retention, such as denials, are destroyed seven years after cut-off, which is generally when the record is closed. Paper records are disposed of by shredding or pulping, and records maintained on electronic media are degaussed or erased in accordance with 384 Departmental Manual 1 and NARA guidelines.

SYSTEM MANAGER AND ADDRESS:

(1) The Departmental FOIA Officer, Office of the Executive Secretariat,

U.S. Department of the Interior, 1849 C Street NW., MS-7328 MIB, Washington, DC 20240, has overall responsibility for the policies and procedures used to operate the system.

(2) DOI Bureau and Office FOIA Officers and Coordinators in headquarters and in field offices have responsibility for the data inputted into and maintained on the EFTS for their respective organizations along with any FOIA case files. To obtain a current list of the FOIA Officers and Coordinators and their addresses, see https://www.doi.gov/foia/contacts.

NOTIFICATION PROCEDURES:

An individual requesting notification of the existence of records on himself or herself in this system of records should send a signed, written inquiry to the FOIA Officer or Coordinator of the Bureau or Office that maintains the FOIA records, as identified above. The request envelope and letter should both be clearly marked “PRIVACY ACT INQUIRY.” A request for notification must meet the requirements of 43 CFR 2.235.

RECORDS ACCESS PROCEDURES:

An individual requesting records on himself or herself should send a signed, written inquiry to the FOIA Officer or Coordinator of the Bureau or Office that maintains the FOIA records, as identified above. The request should describe the records sought as specifically as possible. The request envelope and letter should both be clearly marked “PRIVACY ACT REQUEST FOR ACCESS.” A request for access must meet the requirements of 43 CFR 2.238.

CONTESTING RECORDS PROCEDURES:

An individual requesting corrections or the removal of material from his or her records should send a signed, written request to the FOIA Officer or Coordinator of the Bureau or Office that maintains the FOIA records, as identified above. A request for corrections or removal must meet the requirements of 43 CFR 2.246.

RECORD SOURCE CATEGORIES:

Information gathered in this system is submitted by individuals, agencies, or corporate entities filing FOIA requests and agency employees processing these requests. Information is also taken from the following Privacy Act systems of records: Freedom of Information Act Appeal Files—Interior, OS-69, and Privacy Act Files—Interior, DOI-57.

EXEMPTIONS CLAIMED FOR THE SYSTEM:

To the extent that copies of exempt records from other systems of records are entered into this system, the Department of the Interior claims the same exemptions for those records that are claimed for the original primary systems of records from which they originated.

[FR Doc. 2016-12541 Filed 5-25-16; 8:45 am]

BILLING CODE 4334-63-P